DEPARTMENT OF TRANSPORTATION

Federal Aviation Administration

System Wide Information Management (SWIM) Interactive Developer Workshop; Meeting Announcement

AGENCY: Federal Aviation Administration (FAA), DOT.

System Wide Information Management (SWIM) Interactive Developer Workshop; Meeting Announcement

Tuesday, September 22, 2015 to Thursday, September 24, 2015—From 8:00 a.m. to 4:30 p.m., FAA Florida NextGen Test Bed, 557 Innovation Way, Daytona Beach, FL 32114.

Open Meeting—Interactive Workshop

The Federal Aviation Administration (FAA) invites all interested stakeholders with a background in software development to attend an interactive workshop on System Wide Information Management (SWIM) at the state of the art NextGen Test Bed in Daytona Beach, FL. Join fellow developers as the FAA introduces and demonstrates current and new data services being made available from the agency's enterprise information gateway. Socializing new ideas on how to work with data from SWIM and what applications can be developed will be highly encouraged by the organizers.

Participants to the workshop who have an existing graphical user interface that visualizes data are encouraged to bring their application to use during the workshop. Participants that do not have an interface may be provided one at no cost. All participants must bring their own hardware (laptop preferred) to use during the event.

The FAA will be providing a connection to the Research & Development Data Domain allowing participants to engage and interact real time with data from SWIM in a non-operational environment. The following data types will be introduced and available to work with during the event:

• Notices to Airmen (NOTAM)

• Common Sourced Weather

• Terminal Data Distribution Services

• Flight Data Publication Services

• Traffic Flow Management Publication Services

Participants will be highly encouraged to introduce ideas of how they would incorporate SWIM data into their operation or application both before and after working with the data types provided. For more information or to register, visit www.faa.gov/nextgen/swim.

Space is limited so register early to secure a spot! Registration will close when all spots have been filled!

About SWIM

System Wide Information Management (SWIM) is the FAA's data distribution backbone of NextGen, the Next Generation Air Transportation System. SWIM utilizes a “one to many” data distribution model, allowing easier access to more data, providing it to the right person, at the right time, in the format they want. SWIM utilizes industry standard service oriented architecture (SOA) technology to be interoperable with many types of applications capable of web service and java based messaging. The FAA is also leading the use of standard data exchange models such as Aeronautical Information Exchange (AIXM) and Flight Information Exchange (FIXM).

Paul Fontaine,
Director, NextGen Portfolio Management and Technology Development, Federal Aviation Administration.

[FR Doc. 2015-18213 Filed 7-23-15; 8:45 am]

BILLING CODE P